NUCLEAR WASTE TECHNICAL REVIEW BOARD

Board Meeting

The U.S. NUCLEAR WASTE TECHNICAL REVIEW BOARD will hold a hybrid (in-person/virtual) workshop on August 29, 2023.

Board workshop: August 29, 2023—The U.S. Nuclear Waste Technical Review Board will hold a hybrid (in-person/virtual) workshop in Idaho Falls, ID, to update its understanding of the lessons learned from the siting of radioactive waste management facilities, domestically and in other countries.

Pursuant to its authority under section 5051 of Public Law 100-203, Nuclear Waste Policy Amendments Act (NWPAA) of 1987, the U.S. Nuclear Waste Technical Review Board (Board) will hold a hybrid (in-person/virtual) workshop in Idaho Falls, ID, on Tuesday, August 29, 2023, to update its understanding of the lessons learned from the siting of radioactive waste management facilities, domestically and in other countries.

The hybrid (in-person/virtual) workshop will be held at Snake River Event Center, 780 Lindsay Blvd., Idaho Falls, ID 83402, which is located at the Shilo Inns Idaho Falls. The event center telephone number is (208) 497-0611 and the hotel telephone number is (208) 523-0088. The workshop will begin at 8:00 a.m. Mountain Daylight Time (MDT) and is scheduled to adjourn at 5:00 p.m. MDT. The workshop will include introductory comments by the Board and the Department of Energy (DOE). Planned presentations include descriptions of the siting experiences regarding geologic repositories and a monitored retrievable storage facility in the United States and geologic repositories in Canada, Switzerland, and Sweden. These presentations will be followed by a facilitated panel discussion. DOE will describe how it is incorporating best practices and lessons learned from international and domestic siting efforts, and from environmental justice efforts in its consent-based siting activities. The workshop will close with a facilitated panel discussion on all the workshop topics. After the workshop is adjourned there will be an open house to enable discussions among all participants and attendees. A detailed agenda will be available on the Board's website at www.nwtrb.gov approximately one week before the workshop.

The workshop will be open to the public and there will be an opportunity for public comment prior to workshop adjournment. Those attending the workshop in person and wanting to provide oral comments are encouraged to sign the Public Comment Register at the check-in table near the entrance to the meeting room. Oral commenters will be taken in the order in which they signed in. Public comments can also be submitted during the workshop via the online workshop viewing platform, using the “Comment for the Record” form. Comments submitted online during the day of the workshop will be posted to the Board's website the following day. Depending on the number of speakers and online comments, a time limit on individual remarks may be set. However, written comments of any length may be submitted to the Board staff by mail or electronic mail. All comments received in writing will be included in the workshop record, which will be posted on the Board's website after the workshop. An archived recording of the workshop will be available on the Board's website following the workshop, and a transcript of the workshop will be available on the website by October 30, 2023.

The in-person workshop will follow the COVID-19 precautions mandated by the local jurisdiction. Attendees should observe community guidelines in place at the time of the workshop. The Board will post an update on its website if the workshop changes to a virtual-only workshop. Attendees also are encouraged to pre-register, by providing name and affiliation to SitingWorkshop@nwtrb.gov, to reduce their time signing in at the check-in table. If the workshop changes to a virtual-only format, those who pre-registered will be notified of the change.

The Board was established in the Nuclear Waste Policy Amendments Act of 1987 as an independent federal agency in the Executive Branch to perform an ongoing evaluation of the technical and scientific validity of activities undertaken by DOE related to implementing the NWPA. Board members are experts in their fields and are appointed to the Board by the President from a list of candidates submitted by the National Academy of Sciences. The Board is required to report its findings, conclusions, and recommendations to Congress and the Secretary of Energy. Board reports, correspondence, congressional testimony, and meeting transcripts and related materials are posted on the Board's website.

For information on the workshop, contact Bret Leslie at leslie@nwtrb.gov or Yoonjo Lee at lee@nwtrb.gov. For information on logistics or to request copies of the agenda or transcript, contact Davonya Barnes at barnes@nwtrb.gov. All three may be reached by mail at 2300 Clarendon Boulevard, Suite 1300, Arlington, VA 22201-3367; by telephone at 703-235-4473; or by fax at 703-235-4495.

Dated: August 3, 2023.
Daniel G. Ogg,
Executive Director, U.S. Nuclear Waste Technical Review Board.

[FR Doc. 2023-16906 Filed 8-7-23; 8:45 am]

BILLING CODE 6820-AM-P